DEPARTMENT OF ENERGY

Federal Energy Regulatory Commission

Sunshine Act Meetings

TIME AND DATE: December 16, 2021, 10:00 a.m.

PLACE: Open to the public via audio Webcast only. Join FERC online to listen live at http://ferc.capitolconnection.org/.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1085th Meeting—Open Meeting
[December 16, 2021, 10:00 a.m.]
Item No. | Docket No. | Company
ADMINISTRATIVE
A-1 | AD22-1-000 | Agency Administrative Matters.
A-2 | AD22-2-000 | Customer Matters, Reliability, Security and Market Operations.
ELECTRIC
E-1 | RM20-16-000 | Managing Transmission Line Ratings.
E-2 | RM22-5-000 | Rate Recovery, Reporting, and Accounting Treatment of Industry Association Dues and Certain Civic, Political, and Related Expenses.
E-3 | EL21-77-000 | Tenaska Clear Creek Wind, LLC v. Southwest Power Pool, Inc.
E-4 | ER21-1225-003 | Long Ridge Energy Generation LLC.
E-5 | Omitted
E-6 | ER21-2965-000, ER21-2965-001 | PJM Interconnection, L.L.C., Atlantic City Electric Company, Delmarva Power & Light Company, and PECO Energy Company.
E-7 | ER21-1635-002 | PJM Interconnection, L.L.C.
E-8 | QF21-1213-000 | Gallatin Power Partners, LLC.
E-9 | ER21-142-000 | System Energy Resources, Inc.
E-10 | ER22-187-000 | Smoky Mountain Transmission LLC.
E-11 | ER10-2564-011 | Tucson Electric Power Company.
| ER10-2600-011 | UNS Electric, Inc.
| ER10-2289-011 | UniSource Energy Development Company.
| EL22-5-000 | Tucson Electric Power Company.
E-12 | Omitted
E-13 | ER21-1772-001 | PacifiCorp.
| ER21-1774-001 | Sierra Pacific Power Company.
| ER21-1775-001 | Nevada Power Company.
E-14 | ER21-2676-000 | Southwest Power Pool, Inc.
| ER21-2677-000 (not consolidated) | Midcontinent Independent System Operator, Inc.
| EL17-89-000 | American Electric Power Service Corporation v. Midcontinent Independent System Operator, Inc. and Southwest Power Pool, Inc.
| EL19-60-000 (consolidated) | City of Prescott, Arkansas v. Southwestern Electric Power Company and Midcontinent Independent System Operator, Inc.
E-15 | ER20-2471-003 | NedPower Mount Storm, LLC.
E-16 | EL21-100-000 | Nebraska Public Power District v. Tri-State Generation and Transmission Association, Inc., and Southwest Power Pool, Inc.
E-17 | EL21-60-000 | Arcadia Solar, LLC and WGL Georgia Project Group, LLC.
| QF21-480-001 | Arcadia Solar, LLC.
| QF21-481-001, QF21-482-001, QF21-483-001 | WGL Georgia Project Group, LLC.
GAS
G-1 | IN17-4-000 | Rover Pipeline LLC and Energy Transfer Partners, L.P.
HYDRO
H-1 | RM20-9-000 | Safety of Water Power Projects and Project Works.
H-2 | P-2042-191 | Public Utility District No. 1 of Pend Oreille County, Washington.
H-3 | P-2411-029 | City of Danville, STS Hydropower, LLC, and Eagle Creek Schoolfield, LLC.
H-4 | P-2570-033 | AEP Generation Resources Inc. and Eagle Creek Racine Hydro, LLC.
H-5 | P-2088-083 | South Feather Water and Power Agency.
H-6 | P-943-134 | Public Utility District No. 1 of Chelan County, Washington.
Certificates
C-1 | CP17-458-010 | Midship Pipeline Company, LLC.
C-2 | CP17-458-011 | Midship Pipeline Company, LLC.
C-3 | CP17-458-012 | Midship Pipeline Company, LLC.
C-4 | CP15-558-000, CP19-78-000, CP20-47-000 | PennEast Pipeline Company, LLC.
C-5 | CP17-494-004 | Pacific Connector Gas Pipeline, LP.
| CP17-495-004 | Jordan Cove Energy Project L.P.

The public is invited to listen to the meeting live at http://ferc.capitolconnection.org/. Anyone with internet access who desires to hear this event can do so by navigating to www.ferc.gov's Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Issued: December 9, 2021.
Kimberly D. Bose,
Secretary.

[FR Doc. 2021-27156 Filed 12-13-21; 4:15 pm]

BILLING CODE 6717-01-P